DEPARTMENT OF THE INTERIOR

Bureau of Land Management

[140NMNM 103685]

Public Land Order No. 7587; Withdrawal of National Forest System Land for Langmuir Principal Research Site; New Mexico

AGENCY: Bureau of Land Management.

ACTION: Public land order.

SUMMARY: This order withdraws approximately 852 acres of National Forest System land from location and entry under the United States mining laws for 20 years to protect the Langmuir Principal Research Site.

EFFECTIVE DATE: October 27, 2003.

FOR FURTHER INFORMATION CONTACT: Lois Bell, BLM Socorro Field Office, 198 Neel Avenue NW., Socorro, New Mexico 87801, 505-835-0412.

Order

By virtue of the authority vested in the Secretary of the Interior by Section 204 of the Federal Land Policy and Management Act of 1976, 43 U.S.C. 1714 (2000), it is ordered as follows:

1. Subject to valid existing rights, the following described National Forest System land is hereby withdrawn from location and entry under the United States mining laws, 30 U.S.C. Ch. 2 (2000), to protect the Langmuir Principal Research Site:

Cibola National Forest

New Mexico Principal Meridian

T. 4 S., R. 3 W.,

Sec. 5, lot 2 and W½SW¼;

Sec. 6, lots 5 and 6, SE¼NW¼, E½SW¼, and SE¼;

Sec. 7, NE¼, E½NW¼, and N½SE¼;

Sec. 8, W½NW¼ and NW¼SW¼.

The area described contains approximately 852 acres in Socorro County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: October 6, 2003.
Rebecca W. Watson,
Assistant Secretary—Land and Minerals Management.

[FR Doc. 03-27005 Filed 10-24-03; 8:45 am]

BILLING CODE 3410-11-P